ENVIRONMENTAL PROTECTION AGENCY

[EPA-HQ-OPP-2017-0751; FRL-9997-26]

Interim Registration Review Decisions and Case Closures for Several Pesticides; Notice of Availability

AGENCY: Environmental Protection Agency (EPA).

ACTION: Notice.

SUMMARY: This notice announces the availability of EPA's interim registration review decision for the following chemicals: abamectin, ametryn, bicarbonates, butralin, citronellol, corn glutens, diphenylamine, IAA [Indole acetic acid], LPE [Lysophosphatidylethanolamines, egg yolk], methiocarb, oil of black pepper, oryzalin, predator urines, prohexadione-calcium, pyrithiobac-sodium, Quillaja extract [Quillaja saponins], quinoa saponins [saponins of Chenopodium], sodium cyanide, sodium fluoroacetate, tebuthiuron, Verticillium dahlia Isolate WCS 850, yeast extract hydrolysate, and zinc borate. In addition, it announces the closure of the registration review cases for diallyl sulfides because the last U.S. registrations for these pesticides have been canceled.

ADDRESSES: The docket for this action, identified by docket identification (ID) number EPA-HQ-OPP-2017-0751, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

FOR FURTHER INFORMATION CONTACT:

For pesticide specific information, contact: The Chemical Review Manager for the pesticide of interest identified in the Table in Unit IV., Pesticide Re-Evaluation Division (7508P), Office of Pesticide Programs, Environmental Protection Agency, 1200 Pennsylvania Ave. NW, Washington, DC 20460-0001.

For general questions on the registration review program, contact: Melanie Biscoe, Pesticide Re-Evaluation Division (7508P), Office of Pesticide Programs, Environmental Protection Agency, 1200 Pennsylvania Ave. NW, Washington, DC 20460-0001; telephone number: (703) 305-7106; email address: biscoe.melanie@epa.gov.

SUPPLEMENTARY INFORMATION:

I. General Information

This action is directed to the public in general and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the Chemical Review Manager for the pesticide of interest identified in the Table in Unit IV., or the general contact listed under FOR FURTHER INFORMATION CONTACT.

II. Background

Registration review is EPA's periodic review of pesticide registrations to ensure that each pesticide continues to satisfy the statutory standard for registration, that is, the pesticide can perform its intended function without unreasonable adverse effects on human health or the environment. As part of the registration review process, the Agency has completed interim decisions for all pesticides listed in the Table in Unit IV. Through this program, EPA is ensuring that each pesticide's registration is based on current scientific and other knowledge, including its effects on human health and the environment.

III. Authority

EPA is conducting its registration review of the chemicals listed in the Table in Unit IV pursuant to section 3(g) of the Federal Insecticide, Fungicide, and Rodenticide Act (FIFRA) and the Procedural Regulations for Registration Review at 40 CFR part 155, subpart C. Section 3(g) of FIFRA provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or a human dietary risk from residues that result from the use of a pesticide in or on food.

IV. What action is the Agency taking?

Pursuant to 40 CFR 155.58, this notice announces the availability of EPA's interim registration review decisions for the pesticides shown in the following table. The interim registration review decisions are supported by rationales included in the docket established for each chemical.

Table—Registration Review Interim Decisions Being Issued
Registration review case name and No. | Docket ID No. | Chemical review manager and contact information
Abamectin, Case Number 7430 | EPA-HQ-OPP-2013-0360 | Eric Fox Fox.eric@epa.gov, 703-347-0104.
Ametryn, Case Number 2010 | EPA-HQ-OPP-2013-0249 | Christian Bongard, Bongard.Christian@epa.gov, 703-347-0337.
Bicarbonates, Case Number 4048 | EPA-HQ-OPP-2012-0407 | Donna Kamarei, Kamarei.donna@epa.gov, 703-347-0443.
Butralin, Case Number 2075 | EPA-HQ-OPP-2011-0720 | Lauren Bailey, Bailey.lauren@epa.gov, 703-347-0374.
Citronellol, Case Number 6086 | EPA-HQ-OPP-2017-0250 | Donna Kamarei, Kamarei.donna@epa.gov, 703-347-0443.
Corn Glutens, Case Number 6040 | EPA-HQ-OPP-2016-0253 | Joseph Mabon, Mabon.joseph@epa.gov, 703-347-0177.
Diphenylamine (DPA), Case Number 2210 | EPA-HQ-OPP-2015-0749 | Samantha Thomas, Thomas.samantha@epa.gov, 703-347-0514.
IAA [Indole acetic acid], Case Number 6205 | EPA-HQ-OPP-2016-0665 | Joseph Mabon, Mabon.joseph@epa.gov, 703-347-0177.
LPE [Lysophosphatidylethanolamines, egg yolk], Case Number 6043 | EPA-HQ-OPP-2017-0059 | Daniel Schoeff, Schoeff.daniel@epa.gov, 703-347-0143.
Methiocarb, Case Number 0577 | EPA-HQ-OPP-2010-0278 | Veronica Dutch, Dutch.Veronica@epa.gov, 703-308-8585.
Oil of Black Pepper, Case Number 6004 | EPA-HQ-OPP-2017-0262 | Cody Kendrick, Kendrick.cody@epa.gov, 703-347-0468.
Oryzalin, Case Number 0186 | EPA-HQ-OPP-2010-0940 | Christina Scheltema, Scheltema.christina@epa.gov, 703-308-2201.
Predator Urines: Coyote Urine and Fox Urine, Case Number 6202 | EPA-HQ-OPP-2016-0086 | Alexandra Boukedes, Boukedes.alexandra@epa.gov,703-347-0305.
Prohexadione calcium Case Number 7030 | EPA-HQ-OPP-2012-0870 | Andrew Muench, Muench.Andrew@epa.gov, 703-347-8263.
Pyrithiobac-sodium, Case Number 7239 | EPA-HQ-OPP-2011-0661 | Nathan Sell, Sell.Nathan@epa.gov, 703-347-8020.
Quillaja extract [Quillaja Saponins], Case Number 6512 | EPA-HQ-OPP-2017-0230 | Susanne Cerrelli, Cerrelli.susanne@epa.gov, 703-308-8077.
Quinoa Saponins [Saponins of Chenopodium], Case Number 6200 | EPA-HQ-OPP-2017-0274 | Daniel Schoeff, Schoeff.daniel@epa.gov, 703-347-0143.
Sodium cyanide, Case number 8002 | EPA-HQ-OPP-2010-0752 | Nicole Zinn, Zinn.nicole@epa.gov, 703-308-7076.
Sodium fluoroacetate, Case number 3073 | EPA-HQ-OPP-2010-0753 | Nicole Zinn, Zinn.nicole@epa.gov, 703-308-7076.
Tebuthiuron, Case number 0054 | EPA-HQ-OPP-2009-0327 | Michelle Nolan, Nolan.michelle@epa.gov, (703) 347-0258.
Verticillium dahlia Isolate WCS 850, Case Number 6508 | EPA-HQ-OPP-2016-0306 | Susanne Cerrelli, Cerrelli.susanne@epa.gov, 703-308-8077.
Yeast extract hydrolysate, Case Number 6081 | EPA-HQ-OPP-2017-0282 | Daniel Schoeff, Schoeff.daniel@epa.gov, 703-347-0143.
Zinc Borate, Case Number 5025 | EPA-HQ-OPP-2007-0675 | Stephen Savage, Savage.stephen@epa.gov, 703-347-0345.

The proposed interim registration review decisions for the chemicals in the table above were posted to the docket and the public was invited to submit any comments or new information. EPA addressed the comments or information received during the 60-day comment period for the proposed interim decisions in the discussion for each pesticide listed in the table. Comments from the 60-day comment period that were received may or may not have affected the Agency's interim decision. Pursuant to 40 CFR 155.58(c), the registration review case docket for the chemicals listed in the Table will remain open until all actions required in the interim decision have been completed.

This document also announces the closure of the registration review case for Diallyl sulfides (DADs) (Case Number 6069, Docket ID Number EPA-HQ-OPP-2017-0325) because the last U.S. registrations for these pesticides have been canceled. Background on the registration review program is provided at: http://www.epa.gov/pesticide-reevaluation.

Authority: 7 U.S.C. 136 et seq.

Dated: July 23, 2019.
Mary Reaves,
Acting Director, Pesticide Re-Evaluation Division, Office of Pesticide Programs.

[FR Doc. 2019-16705 Filed 8-5-19; 8:45 am]

BILLING CODE 6560-50-P